DEPARTMENT OF TRANSPORTATION

Federal Railroad Administration

[Docket No. FRA-2023-0002-N-26]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before January 2, 2024.

ADDRESSES: Written comments and recommendations for the proposed ICR should be submitted on regulations.gov to the docket, Docket No. FRA-2023-0002. All comments received will be posted without change to the docket, including any personal information provided. Please refer to the assigned OMB control number (2130-0566) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Reflectorization of Rail Freight Rolling Stock.

OMB Control Number: 2130-0566.

Abstract: FRA issued this regulation to mandate the reflectorization of freight rolling stock (using retroreflective material on freight cars and locomotives) to enhance the visibility of trains to reduce the number and severity of accidents at highway-rail grade crossings where visibility was a contributing factor.¹ FRA uses the information collected to verify that the person responsible for the car reporting mark is notified after the required visual inspection when the freight equipment has less than 80 percent of the required retroreflective sheeting present, undamaged, or unobscured.

¹ See 70 FR 144, Jan. 3, 2005.

Moreover, FRA uses the information collected to verify that the required locomotive records of retroreflective sheeting defects found, after inspection, are kept in the locomotive cab or in a railroad accessible electronic database that FRA can access upon request. Finally, FRA uses the information collected to confirm that railroads/car owners meet the prescribed standards for the inspection and maintenance of the required retroreflective material.

In this 60-day notice, FRA makes no adjustments to the previously approved burden hours and responses in the Office of Information and Regulatory Affairs (OIRA) inventory.²

² Changes to the total cost equivalent in U.S. dollars, a category not included in the OIRA inventory, are due to updated statistics from the 2022 Surface Transportation Board (STB) Full Year Wage A&B data series.

Type of Request: Extension without change of a currently approved collection.

Affected Public: Businesses.

Form(s): N/A.

Respondent Universe: 783 railroads and freight car owners.

Frequency of Submission: On occasion/monthly.

Reporting Burden:

CFR section | Respondent universe | Total annual responses | Average time per response | Total annual burden hours | Total cost equivalent in U.S dollar
|  | (A) | (B) | (C = A * B) | (D = C * wage rates) ³
224.7—Waivers | 783 railroads & freight car owners | 10 petitions | 8 hours | 80.00 | $6,874.40
224.15(b)—Special approval procedures—Petitions for special approval of alternative standard | 2 manufacturers | 2 petitions | 40 hours | 80.00 | 6,874.40
—(d)(3) Hearing on the petition in accordance with the procedures provided in § 211.25 | FRA anticipates that there will be zero hearings during this 3-year ICR period.
—(e) Disposition of petitions | This requirement is exempted from PRA under 5 CFR 1320.4(2).
224.101—General requirements | The estimated paperwork burden for this requirement is covered under § 224.15.
224.103(d)—Characteristics retroreflective sheeting—Certification | The requirements for this part are included as part of the standard manufacturing process.
224.103(e)—Characteristics retroreflective sheeting—Alternative standards | The estimated paperwork burden for this requirement is covered under § 224.15.
224.109(a)—Inspection, repair, and replacement—Railroad freight cars—Railroads notification to person responsible for reporting mark after visual inspection for presence and condition when freight car on either side has less than 80% reflective sheeting of the damaged, obscured, or missing sheeting | Association of American Railroads/300 car shops | 33,380 notifications | 5 minutes | 2,781.67 | 186,677.87
—(b) Locomotive record of freight retroreflective sheeting defects found after inspection kept in locomotive cab or in railroad accessible electronic database that FRA can access upon request | 783 railroads & freight car owners | 2,609 records | 5 minutes | 217.42 | 14,591.06
Total ⁴ | 783 railroads & freight car owners | 36,001 responses | N/A | 3,159 | 215,017

Total Estimated Annual Responses: 36,001.

³ The dollar equivalent cost is derived from the 2022 STB Full Year Wage A&B data series using the employee group 200: (Professional & Administrative), hourly wage rate of $49.10, and group 400 (Maintenance of Equipment & Stores). The total burden wage rate, (Straight time plus 75%), used in the table is $85.93 ($49.10 × 1.75 = $85.93), except for sections 224.109(a) and 224.109(b) which used $67.11 ($38.35 × 1.75 = $67.11).

⁴ Totals may not add due to rounding.

Total Estimated Annual Burden: 3,159.

Total Estimated Annual Burden Hour Dollar Cost Equivalent: $215,017.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2023-24198 Filed 11-1-23; 8:45 am]

BILLING CODE 4910-06-P